FEDERAL MARITIME COMMISSION

[DOCKET NO. 22-29]

MVM Logistics, Complainant v. MSC Mediterranean Shipping Company (USA) Inc., Respondent; Notice of Filing of Complaint and Assignment

Served: October 25, 2022.

Notice is given that a complaint has been filed with the Federal Maritime Commission (Commission) by MVM Logistics, hereinafter “Complainant,” against MSC Mediterranean Shipping Company (USA) Inc. as agent for Mediterranean Shipping Company, S.A., Geneva, hereinafter “Respondent.” Complainant states that it is a corporation organized under the laws of California. Complainant identifies the Respondent as a corporation organized under the laws of the State of New York and agent for the vessel-operating ocean common carrier that is headquartered in Geneva, Switzerland.

Complainant alleges that Respondent violated 46 U.S.C. 41102(c) in its practices regarding the return of containers and related assessment of charges. An answer to the complaint is due to be filed with the Commission within twenty-five (25) days after the date of service. The full text of the complaint can be found in the Commission's Electronic Reading Room at https://www2.fmc.gov/readingroom/proceeding/22-29/.

This proceeding has been assigned to Office of Administrative Law Judges. The initial decision of the presiding officer in this proceeding shall be issued by October 25, 2023, and the final decision of the Commission shall be issued by May 9, 2024.

William Cody,
Secretary.

[FR Doc. 2022-23565 Filed 10-28-22; 8:45 am]

BILLING CODE 6730-02-P